DEPARTMENT OF COMMERCE

International Trade Administration

[A-570-909]

Certain Steel Nails From the People's Republic of China: Extension of Time Limit for the Final Results of the Second Antidumping Duty Administrative Review

AGENCY: Import Administration, International Trade Administration, Department of Commerce.

DATES: Effective Date: December 12, 2011.

FOR FURTHER INFORMATION CONTACT: Alexis Polovina, Javier Barrientos, or Ricardo Martinez, AD/CVD Operations, Office 9, Import Administration, International Trade Administration, U.S. Department of Commerce, 14th Street and Constitution Avenue, NW., Washington, DC 20230; telephone (202) 482-3927, (202) 482-2243, or (202) 482-4532, respectively.

Background

On September 12, 2011, the Department of Commerce (“Department”) published in the Federal Register its Preliminary Results of the antidumping duty order on certain steel nails (“steel nails”) from the People's Republic of China (“PRC”).¹ The period of review (“POR”) is August 1, 2009, through July 31, 2010. The final results are currently due no later than January 10, 2012.

¹ See Certain Steel Nails From the People's Republic of China: Preliminary Results and Preliminary Rescission, in Part, of the Antidumping Duty Administrative Review and Preliminary Intent To Rescind New Shipper Review, 76 FR 56147 (September 12, 2011) (“Preliminary Results”).

Extension of Time Limit for the Final Results

Section 751(a)(3)(A) of the Tariff Act of 1930, as amended (“Act”), requires that the Department issue the final results of an administrative review within 120 days after the date on which the preliminary results are published. If it is not practicable to complete the review within that time period, section 751(a)(3)(A) of the Act allows the Department to extend the deadline for the final results to a maximum of 180 days after the date on which the preliminary results are published.

Subsequent to the Preliminary Results, the Department issued questionnaires requesting more information from the tollers/sub-contractors and extended the deadlines for the case and rebuttal briefs. As a result, the Department finds that it is not practicable to complete the process of reviewing the post-preliminary questionnaires, case briefs, and surrogate values within the scheduled time limit. Therefore, in accordance with section 751(a)(3)(A) of the Act, the Department is partially extending the time for the completion of the final results of this review by 30 days to February 9, 2012.

We are issuing and publishing this notice in accordance with sections 751(a) and 777(i)(1) of the Act.

Dated: December 7, 2011.
Edward C. Yang,
Acting Deputy Assistant Secretary for Antidumping and Countervailing Duty Operations.

[FR Doc. 2011-31840 Filed 12-9-11; 8:45 am]

BILLING CODE 3510-DS-P